DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project: “Consumer Assessment of Healthcare Providers and Systems (CAHPS) Health Plan Survey Database.” In accordance with the Paperwork Reduction Act of 1995, AHRQ invites the public to comment on this proposed information collection.

DATES: Comments on this notice must be received by October 23, 2023.

ADDRESSES: Written comments should be submitted to: Doris Lefkowitz, Reports Clearance Officer, AHRQ, by email at doris.lefkowitz@AHRQ.hhs.gov.

FOR FURTHER INFORMATION CONTACT: Doris Lefkowitz, AHRQ Reports Clearance Officer, (301) 427-1477, or by email at doris.lefkowitz@AHRQ.hhs.gov.

SUPPLEMENTARY INFORMATION:

Proposed Project

Consumer Assessment of Healthcare Providers and Systems (CAHPS) Health Plan Survey Database

AHRQ requests that OMB reapprove AHRQ's collection of information for the AHRQ Consumer Assessment of Healthcare Providers and Systems (CAHPS) Health Plan Survey Database: OMB Control number 0935-0165, expiration November 30, 2023 (the CAHPS Health Plan Database). The CAHPS Health Plan Database consists of data from the AHRQ CAHPS Health Plan Survey. Health plans in the U.S. are asked to voluntarily submit data from the survey to AHRQ, through its contractor, Westat. The CAHPS Health Plan Database was developed by AHRQ in 1998 in response to requests from health plans, purchasers, and the Centers for Medicare & Medicaid Services (CMS) to provide comparative data to support public reporting of health plan ratings, health plan accreditation and quality improvement.

This research has the following goals:

(1) To maintain the CAHPS Health Plan Database using data from AHRQ's standardized CAHPS Health Plan Survey to provide results to health care purchasers, consumers, regulators and policy makers across the country.

(2) To offer several products and services, including aggregated results presented through an Online Reporting System, summary chartbooks, custom analyses, and data for research purposes.

(3) To provide data for AHRQ's annual National Healthcare Quality and Disparities Report.

(4) To provide state-level data to CMS for public reporting on Medicaid.gov and Data.Medicaid.gov that does not display the name of the health plans.

Survey data from the CAHPS Health Plan Database is used to produce four types of products: (1) An annual chartbook available to the public on the CAHPS Database website (https://www.ahrq.gov/sites/default/files/wysiwyg/cahps/cahps-database/2022-hp-chartbook.pdf)); (2) individual participant reports that are confidential and customized for each participating organization (e.g., health plan, Medicaid agency) that submits their data; (3) a research database available to researchers wanting to conduct additional analyses; and (4) data tables provided to AHRQ for inclusion in the National Healthcare Quality and Disparities Reports.

This study is being conducted by AHRQ through its contractor, Westat, pursuant to AHRQ's statutory authority to conduct and support research on healthcare and on systems for the delivery of such care, including activities with respect to the quality, effectiveness, efficiency, appropriateness and value of healthcare services; quality measurement and development, and database development. 42 U.S.C. 299a(a)(1), (2) and (8).

Method of Collection

To achieve the goals of this project the following activities and data collections will be implemented:

• Registration Form—The point-of-contact (POC), often the sponsor from Medicaid agencies and health plans, completes a number of data submission steps and forms, beginning with the completion of the online registration form. The purpose of this form is to collect basic contact information about the organization and initiate the registration process.

• Health Plan Information Form—The purpose of this form, completed by the participating sponsor organization, is to collect background characteristics of the health plan.

• Data Use Agreement—The purpose of the data use agreement, completed by the participating sponsor organization, is to state how data submitted by health plans will be used and provide confidentiality assurances.

• Data Files Submission—POCs upload their data file using the Health Plan data file specifications to ensure that users submit standardized and consistent data in the way variables are named, coded, and formatted.

Estimated Annual Respondent Burden

Exhibit 1 shows the estimated burden hours for the respondent to participate in the database. The burden hours pertain only to the collection of Medicaid data from State Medicaid agencies and individual Medicaid health plans because those are the only entities that submit data through the data submission process. The 125 POCs in Exhibit 1 are a combination of an estimated 115 State Medicaid agencies and individual health plans (Sponsors), and 10 vendor organizations.

Each sponsor, which is made up of State Medicaid agencies and individual health plans, and vendor will register online for submission. The online Registration form will require about 5 minutes to complete. Each sponsor will also complete a Health Plan information form of information about each Health Plan such as the name of the plan, the product type (e.g., HMO, PPO), the population surveyed (e.g., adult Medicaid or child Medicaid). Each year, the prior year's plan data are preloaded in the plan table to lessen burden on the Sponsor. The Sponsor is responsible for updating the plan table to reflect the current year's plan information. The online Health Plan Information form takes on average 30 minutes to complete per health plan with each POC completing the form for four plans on average. The Data Use Agreement (DUA) will be completed by the 115 participating State Medicaid agencies or individual health plans. Vendors do not sign or submit DUAs. The DUA requires about 5 minutes to sign and upload. Each submitter will provide a copy of their questionnaire and the survey data file in the required file format. Survey data files must conform to the data file layout specifications provided by the CAHPS Database. Submitters will upload one data file per health plan. Once a data file is uploaded the file will be checked automatically to ensure it conforms to the specifications and a data file status report will be produced and made available to the submitter. Submitters will review each report and will be expected to fix any errors in their data file and resubmit if necessary. It will take about 1 hour to submit the data for each plan, and each POC will submit data for four plans on average. The total burden is estimated to be 710 hours annually.

Exhibit 1—Estimated Annualized Burden Hours
Form name | Number of respondents/POCs | Number of responses per POC | Hours per response | Total burden hours
Registration Form | 125 | 1 | 5/60 | 10
Health Plan Information Form | 115 | 4 | 30/60 | 230
Data Use Agreement | 115 | 1 | 5/60 | 10
Data Files Submission | 115 | 4 | 1 | 460
Total | 470 | NA | NA | 710

Exhibit 2 shows the estimated annualized cost burden based on the respondents' time to complete one submission process. The cost burden is estimated to be $36,222 annually.

Exhibit 2—Estimated annualized cost burden
Form name | Number of respondents | Total burden hours | Average hourly wage rate * | Total cost burden
Registration Form | 125 | 10 | ᵃ 57.61 | $576
Health Plan Information Form | 115 | 230 | ᵃ 57.61 | 13,250
Data Use Agreement | 115 | 10 | ᵇ 102.41 | 1,024
Data Files Submission | 115 | 460 | ᶜ 46.46 | 21,372
Total | 470 | 710 | NA | 36,222
* National Compensation Survey: Occupational wages in the United States May 2021, “U.S. Department of Labor, Bureau of Labor Statistics.”
ᵃ Based on the mean hourly wage for Medical and Health Services Managers (11-9111).
ᵇ Based on the mean hourly wage for Chief Executives (11-1011).
ᶜ Based on the mean hourly wages for Computer Programmers (15-1251).

Request for Comments

In accordance with the Paperwork Reduction Act, 44 U.S.C. 3501-3520, comments on AHRQ's information collection are requested with regard to any of the following: (a) whether the proposed collection of information is necessary for the proper performance of AHRQ's health care research and health care information dissemination functions, including whether the information will have practical utility; (b) the accuracy of AHRQ's estimate of burden (including hours and costs) of the proposed collection(s) of information; (c) ways to enhance the quality, utility and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: August 21, 2023.
Marquita Cullom,
Associate Director.

[FR Doc. 2023-18221 Filed 8-23-23; 8:45 am]

BILLING CODE 4160-90-P